DEPARTMENT OF AGRICULTURE

Food Safety and Inspection Service

[Docket No. FSIS-2021-0024]

National Advisory Committee on Microbiological Criteria for Foods

AGENCY: Food Safety and Inspection Service, USDA.

ACTION: Notice of public meeting.

SUMMARY: This notice is announcing a public meeting of the full Committee and Subcommittees from November 17, 2021 to November 19, 2021. The Committee will discuss the following two new charges: Enhancing Salmonella Control in Poultry Products and Cyclospora cayetanensis Contamination.

DATES: The full Committee will hold an open meeting on Wednesday, November 17, 2021 from 9:00 a.m. to 12:00 p.m. EST. The Subcommittees on Enhancing Salmonella Control in Poultry Products and Cyclospora cayetanensis Contamination, will hold concurrent open Subcommittee meetings on Wednesday, November 17, 2021 from 1:00 p.m. to 5:00 p.m.; Thursday November 18, 2021 from 1:00 p.m. to 4:00 p.m. EST.; and Friday, November 19, 2021 from 10:00 a.m. to 12:00 p.m. EST.

ADDRESSES: The Committee meetings will be held virtually. Attendees must pre-register at https://ems8.intellor.com?do=register&t=1&p=841219 to receive a link for the meeting, dial-in number, access code, and unique Attendee ID for the Wednesday November 17, 2021 plenary meeting. There will be an opportunity to provide oral comments during the public meeting. Speakers are limited to three minutes during the public comment period. Attendees must notify FSIS during registration of their wish to speak at the meeting. FSIS will do its best to accommodate all registered persons who request to provide oral comments. Attendees should also indicate if they are interested in attending any of the Subcommittee meetings so FSIS can provide links for those meetings.

The NACMCF charges to be presented will be available at: https://www.fsis.usda.gov/policy/federal-register-rulemaking/federal-register-notices.

Agenda: FSIS will finalize an agenda on or before the meeting date and post it on FSIS' website at https://www.fsis.usda.gov/news-events/events-meetings.

Please note that the meeting agenda is subject to change due to the time required to present and discuss new charges; thus, sessions could end earlier or later than anticipated. Please plan accordingly if you would like to attend this meeting. Also, the official transcript of the November 17, 2021 full Committee meeting, when it becomes available, will be available on FSIS' website at https://www.fsis.usda.gov/news-events/events-meetings.

FOR FURTHER INFORMATION CONTACT: Persons with additional questions should contact Dr. Evelyne Mbandi: Phone: (202) 690-6537; Email: NACMCF@usda.gov. Sign Language Interpretation: Persons requiring a sign language interpreter or other special accommodations should notify Dr. Mbandi by November 3, 2021.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing on FSIS' website at https://www.fsis.usda.gov/policy/advisory-committees/national-advisory-committee-microbiological-criteria-foods-nacmcf. The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Centers for Disease Control and Prevention and the Departments of Commerce and Defense. Ms. Sandra Eskin, Deputy Under Secretary for Food Safety, USDA, is the Committee Chair; Dr. Susan T. Mayne, Director of the Food and Drug Administration's Center for Food Safety and Applied Nutrition (CFSAN), is the Vice-Chair; and Mr. John J. Jarosh, FSIS, is the Director of the NACMCF Secretariat and Designated Federal Officer. Charges reviewed and approved by NACMCF Executive Committee deliberations will be made available by FSIS to the public prior to the Plenary Session on FSIS' website.

Disclaimer: NACMCF documents and comments posted on FSIS' website are electronic conversions from a variety of source formats. In some cases, document conversion may result in character translation or formatting errors. The original document is the official, legal copy. To meet the electronic and information technology accessibility standards in Section 508 of the Rehabilitation Act, NACMCF may add alternate text descriptors for non-text elements (graphs, charts, tables, multimedia, etc.). These modifications only affect the internet copies of the documents. Copyrighted documents will not be posted on FSIS' website, but will be available for inspection in the FSIS Docket Room. FSIS will announce this Federal Register publication on-line through the FSIS web page located at: https://www.fsis.usda.gov/policy/federal-register-rulemaking/federal-register-notices. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: https://www.fsis.usda.gov/news-events/news-press-releases/news-feeds-subscriptions. Options range from recalls to export information, regulations, directives, and notices. Customers can add or delete subscriptions themselves and have the option to password protect their accounts.

USDA Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident. Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English. To file a program discrimination complaint, complete the USDA Program Discrimination Complaint Form, AD- 3027, found online at https://www.usda.gov/oascr/how-to-file-a-program-discrimination-complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov.

USDA is an equal opportunity provider, employer, and lender.

Dated: October 15, 2021.
Cikena Reid,
USDA Committee Management Officer.

[FR Doc. 2021-22829 Filed 10-19-21; 8:45 am]

BILLING CODE P